NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

ADDRESSES: Deputy Associate Administrator, Office of the Mission Support Directorate, NASA Headquarters, Washington, DC 20546.

FOR FURTHER INFORMATION CONTACT: Cheryl E. Parker, (202) 358-0252.

SUPPLEMENTARY INFORMATION: OMB guidelines dated January 16, 2020, “Spring 2019 Unified Agenda of Federal Regulatory and Deregulatory Actions,” require a regulatory agenda of those regulations under development and review to be published in the Federal Register each spring and fall.

Dated: March 5, 2020.
Joel R. Carney,
Deputy Associate Administrator, Mission Operations Support Directorate.

National Aeronautics and Space Administration—Completed Actions
Sequence No. | Title | Regulation Identifier No.
208 | NASA Harassment Report Case Files (10 HRCF) Exemption (Section 610 Review) | 2700-AE50

NATIONAL AERONAUTICS AND SPACE ADMINISTRATION (NASA)

Completed Actions

208. NASA Harassment Report Case Files (10 HRCF) Exemption (Section 610 Review)

E.O. 13771 Designation: Other.

Legal Authority: 5 U.S.C. 552a, The Privacy Act of 1974

Abstract: NASA is issuing a direct final rule to modify the Agency's Privacy Act Regulations to exempt investigative materials found in NASA Harassment Report Case Files. The harassment report case records are used for the purpose of investigative materials for potential law enforcement purposes. The exemption would prevent these investigative case files from being released under the Privacy Act. Case Files records are exempted from the following sections of the Privacy Act (5 U.S.C. 552a): (c)(3) relating to access to the disclosure accounting; (d) relating to access to the records; (e)(1) relating to the type of information maintained in the records; (e)(4)(G), (H) and (I) relating to publishing in the annual system notice information as to agency procedures for access and correction and information as to the categories of sources of records; and (f) relating to developing agency rules for gaining access and making corrections.

Completed:

Reason | Date | FR Cite
Withdrawn | 02/27/20

Regulatory Flexibility Analysis Required: No.

Agency Contact: Patti Stockman, Phone: 202 358-4787, Email: patti.stockman@nasa.gov.

RIN: 2700-AE50

[FR Doc. 2020-16765 Filed 8-25-20; 8:45 am]

BILLING CODE 7510-13-P